Title 3—

The President

Proclamation 8824 of May 21, 2012

Emergency Medical Services Week, 2012

By the President of the United States of America

A Proclamation

Day and night, in communities across our country, men and women providing emergency medical services (EMS) stand at the front lines of our public safety and public health systems, ready to respond with care and efficiency at a moment’s notice. During Emergency Medical Services Week, we honor their essential contributions to our health and safety, and we recommit to supporting all EMS personnel as they carry out their courageous work.

Representing a diverse array of professions and skill sets, EMS practitioners are united by their devotion to building a stronger, more resilient Nation. They serve in both the public and private sectors—from the first responders, emergency medical technicians, and paramedics who arrive at the scene to 911 dispatchers, firefighters, law enforcement officers, and professionals throughout our health care system who work together to ensure those in need receive the highest level of emergency service. Thousands of Americans have dedicated their careers to saving lives as EMS practitioners; thousands more serve as volunteers, going above and beyond to sustain the health and safety of their communities. As they tirelessly pursue that critical mission, my Administration remains committed to working with partners across government and industry to strengthen our EMS system and bolster preparedness in homes and hospitals across America.

Emergency medical services personnel demonstrate a profound commitment to our country and to our common humanity. Day after day, they answer the call to serve—to step into crisis and spark hope where it grows dim. This week, let us pay tribute to these selfless individuals and renew our promise to provide them with the support and services they need to protect their communities.

NOW, THEREFORE, I, BARACK OBAMA, President of the United States of America, by virtue of the authority vested in me by the Constitution and the laws of the United States, do hereby proclaim May 20 through May 26, 2012, as Emergency Medical Services Week. I encourage all Americans to observe this occasion by sharing their support with their local EMS providers and taking steps to improve their personal safety and preparedness.

IN WITNESS WHEREOF, I have hereunto set my hand this twenty-first day of May, in the year of our Lord two thousand twelve, and of the Independence of the United States of America the two hundred and thirty-sixth.

[FR Doc. 2012-12876

Filed 5-23-12; 11:15 am]

Billing code 3295-F2-P